ENVIRONMENTAL PROTECTION AGENCY

[EPA-HQ-OPPT-2007-1193; FRL-8348-9]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from October 2, 2007 through November 30, 2007, consists of the PMNs and TMEs, both pending or expired, and the notices of commencement to manufacture a new chemical that the Agency has received under TSCA section 5 during this time period.

DATES: Comments identified by the specific PMN number or TME number, must be received on or before February 22, 2008.

ADDRESSES: Submit your comments, identified by docket identification (ID) number EPA-HQ-OPPT-2007-1193, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2007-1193. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2007-1193. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from October 2, 2007 through November 30, 2007, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 111 Premanufacture Notices Received From: 10/01/07 to 11/30/07
Case No. | Received Date | Projected Notice End Date | Manufacturer/Importer | Use | Chemical
P-08-0001 | 10/01/07 | 12/29/07 | CBI | (G) Esterified polyamic acid polymer for coatings, open, non-dispersive use | (G) Esterified polyamic acid polymer
P-08-0002 | 10/01/07 | 12/29/07 | Genencor, (Danisco, USA) | (S) Textile chemical formulation (TCF) of denim bleaching products; laundry denim bleaching and/or modification of the cast of denim | (S) Benzonitrile, 4-hydroxy-3,5-dimethoxy- (syringonitrile)
P-08-0003 | 10/01/07 | 12/29/07 | CBI | (S) Intermediate for paint binder | (G) Methacrylate monomer
P-08-0004 | 10/01/07 | 12/29/07 | CBI | (S) Topcoat for leather; topcoat for plastics and epdn rubber | (G) Aliphatic polycarbonate diol polyurethane
P-08-0005 | 10/01/07 | 12/29/07 | CBI | (S) Topcoat for leather; topcoat for plastics and epon rubber | (G) Aliphatic polycarbonate diol polyurethane
P-08-0006 | 10/03/07 | 12/31/07 | CBI | (G) Resin for coatings | (G) Acrylic polyester microgel polymer
P-08-0007 | 10/03/07 | 12/31/07 | CBI | (G) Resin for coatings | (G) Polyester polymer
P-08-0008 | 10/03/07 | 12/31/07 | CBI | (G) Resin for coatings | (G) Acrylic polymer
P-08-0009 | 10/03/07 | 12/31/07 | CBI | (G) Resin for coatings | (G) Acrylic polymer
P-08-0010 | 10/03/07 | 12/31/07 | CBI | (G) Resin for coatings | (G) Acrylic polymer
P-08-0011 | 10/04/07 | 01/01/08 | CBI | (S) Paint binder (whichever of the two PMN substance is produced will be used as a paint binder) | (G) Octyl acrylates
P-08-0012 | 10/04/07 | 01/01/08 | CBI | (S) Paint binder (whichever of the two PMN substance is produced will be used as a paint binder) | (G) Octyl acrylates
P-08-0013 | 10/03/07 | 12/31/07 | Incorez Corporation | (S) Curing agent for epoxy based coatings | (G) Emulsified polyamine hardener
P-08-0014 | 10/03/07 | 12/31/07 | CBI | (G) Resin for coatings | (G) Acrylic polymer
P-08-0015 | 10/03/07 | 12/31/07 | CBI | (G) Resin for coatings | (G) Acrylic polymer
P-08-0016 | 10/09/07 | 01/06/08 | CBI | (S) Chemical Intermediate | (G) Hydroxymercapto substituted benzene
P-08-0017 | 10/09/07 | 01/06/08 | The Dow Chemical Company | (G) Component of electrical laminates | (G) Phosphorated phenolic novolac
P-08-0018 | 10/10/07 | 01/07/08 | CBI | (G) Oilfield applications | (G) Modified olefins
P-08-0019 | 10/10/07 | 01/07/08 | CBI | (G) Component of manufactured consumer article - contained use | (G) Benzene, 1,4-bis(aralkoxy)-
P-08-0020 | 10/10/07 | 01/07/08 | CBI | (G) Chemical intermediate in the manufacture of other industrial chemicals, and additive in formulated coating products | (S) Propanol, 1 (or 2)-(methyl-2-phenoxyethoxy)-
P-08-0021 | 10/11/07 | 01/08/08 | Robertet, Inc. | (S) As an odoriferous component of fragrance compounds | (S) Alcoholic beverages, rum, ext.
P-08-0022 | 10/11/07 | 01/08/08 | Mitsubishi Chemical Performance Polymers, Inc. | (S) Molding material for agriculture; molding material for food package; material for fiber, monofilament; molding material for construction; material for sheet, film | (G) Alkanedioic acid, polymer with butanedioic acid, 1,4-butanediol and 2-hydroxypropanoic acid
P-08-0023 | 10/11/07 | 01/08/08 | Mitsubishi Chemical Performance Polymers, Inc. | (S) Molding material for agriculture; molding material for food package; material for fiber, monofilament; molding material for construction; material for sheet, film | (G) Alkanedioic acid, polymer with 1,4-butanediol and 2-hydroxypropanoic acid
P-08-0024 | 10/10/07 | 01/07/08 | CBI | (G) Crosslinking agent to be ultimately used in the manufacture of automotive and aircraft coating materials | (S) 1,3-dioxolane-4-butanol,2-ethenyl-
P-08-0025 | 10/12/07 | 01/09/08 | CBI | (G) Papermaking chemical | (S) Formamide, N-ethenyl-, homopolymer, hydrolyzed, N-(3-carboxy-1-oxopropyl) N-[2-hydroxy-3-(trimethylammonio)propyl] derivs., chlorides
P-08-0026 | 10/15/07 | 01/12/08 | CBI | (S) Melt processing e.g. injection moulding to produce finished articles | (S) Methanone, 1,1′-(1,4-phenylene)bis[1-(4-fluorophenyl)-, polymer with bis(4-hydroxyphenyl)methanone
P-08-0027 | 10/15/07 | 01/12/08 | CBI | (G) Silicone intermediate | (G) Dimethyl siloxane polyglycol
P-08-0028 | 10/15/07 | 01/12/08 | CBI | (S) Textile treating agent | (G) Dimethyl siloxane polyethylene glycol
P-08-0029 | 10/17/07 | 01/14/08 | CBI | (G) Destructive use | (G) Hindered phenolic ester
P-08-0030 | 10/18/07 | 01/15/08 | CBI | (G) A. Synthetic lubricant base fluid (major); B. Reactive intermediate (minor) | (G) 1,1 Geminal disubstituted ethylene
P-08-0031 | 10/18/07 | 01/15/08 | CBI | (G) A. Synthetic lubricant base fluid (major); B. Reactive intermediate (minor) | (G) 1,1 Geminal disubstituted ethylene
P-08-0032 | 10/18/07 | 01/15/08 | CBI | (G) A. Synthetic lubricant base fluid (major); B. Reactive intermediate (minor) | (G) 1,1 Geminal disubstituted ethylene
P-08-0033 | 10/19/07 | 01/16/08 | CBI | (G) Chemical intermediate | (G) Chloro fluoro alkane
P-08-0034 | 10/22/07 | 01/19/08 | Hydbrid Plastics, Inc. | (S) Epoxy resin for high temperature aerospace composites | (S) Oxirane, 2-[[3-(trimethoxysilyl)propoxy]methyl]-, hydrolyzed
P-08-0035 | 10/19/07 | 01/16/08 | CBI | (G) Fabric treatment agent | (S) 6H-dibenz[c,e][1,2]oxaphosphorium,6-(phenylmethyl)-,6-oxide
P-08-0036 | 10/23/07 | 01/20/08 | Fujifilm Hunt Chemicals U.S.A., Inc. | (S) Intermediated for production of PMN substance P-06-444 | (S) Benzenecarboximidamide, n-hydroxy-4-nitro-
P-08-0037 | 10/24/07 | 01/21/08 | Forbo Adhesives, LLC | (G) Hot melt polyurethane adhesive | (G) Isocyanate functional polyester polyether urethane polymer
P-08-0038 | 10/25/07 | 01/22/08 | CBI | (S) Aliphatic acrylate polymer used in the manufacture of Ultraviolet curable inks and coatings | (G) Tertiary amine acrylate
P-08-0039 | 10/25/07 | 01/22/08 | CBI | (G) Hardening agent | (G) Mixed amino diaryl sulfone isomers
P-08-0040 | 10/25/07 | 01/22/08 | CBI | (G) Sealant | (G) Polyurethane hybrid
P-08-0041 | 10/25/07 | 01/22/08 | CBI | (G) Paint | (G) Neodecanoic acid, oxiranyl ester modified alkyl acrylate,polymer with alkyl acrylates, styrene and hydroxyalkyl acrylates, peroxide-initiated
P-08-0042 | 10/23/07 | 01/20/08 | CBI | (G) Foam additive | (G) Treated silica
P-08-0043 | 10/26/07 | 01/23/08 | CBI | (G) Jacketing of wires and data-cables | (G) Fluoropolymer
P-08-0044 | 10/26/07 | 01/23/08 | CBI | (G) Non-dispersive use | (G) Animated epoxy resin
P-08-0045 | 10/29/07 | 01/26/08 | Rahn USA Corp. | (S) Ultra violet / electron beam reactive formulations | (G) Aliphatic urethane acrylate oligomer
P-08-0046 | 10/29/07 | 01/26/08 | CBI | (G) Coating additive | (G) Mixed metal oxide complex
P-08-0047 | 10/29/07 | 01/26/08 | CBI | (G) Raw material | (G) Metal oxide complex
P-08-0048 | 10/31/07 | 01/28/08 | CBI | (G) Colourant dispersant | (G) Acrylic polymer
P-08-0049 | 10/30/07 | 01/27/08 | CBI | (G) Ink additive | (G) 2-propenoic acid, 2-methyl-, polymer with alkyl 2-propenoate, ethenylbenzene and 2-propenoic acid, metal salt, peroxycompound-initiated
P-08-0050 | 10/31/07 | 01/28/08 | CBI | (G) Metalworking fluid component | (G) Amide polymer
P-08-0051 | 10/31/07 | 01/28/08 | 3M Company | (G) Adhesive | (G) Substituted acrylate polymer
P-08-0052 | 11/01/07 | 01/29/08 | BAE Systems , ordnance systems Inc. | (G) For use as a high explosive in explosives formulatons for DOD | (S) Nitrotriazolone 3-nitro-1,2,4-triazol-5-one
P-08-0053 | 11/01/07 | 01/29/08 | Reichhold, Inc. | (S) Topcoats for industrial equipment | (G) Urethane modified vegetable oil, epoxidized polymer
P-08-0054 | 11/01/07 | 01/29/08 | CBI | (G) Semiconductor coating | (G) Poly (arylene ether)
P-08-0055 | 11/01/07 | 01/29/08 | CBI | (G) Open non-dispersive (coatings) | (G) Aqueous hydroxyl-functional polyester polyacrylate dispersion
P-08-0056 | 11/01/07 | 01/29/08 | CBI | (G) Functional fluid | (G) Polyalphaolefins; paos
P-08-0057 | 11/01/07 | 01/29/08 | CBI | (G) Functional fluid | (G) Polyalphaolefins; paos
P-08-0058 | 11/01/07 | 01/29/08 | CBI | (G) Functional fluid | (G) Polyalphaolefins; paos
P-08-0059 | 11/01/07 | 01/29/08 | CBI | (G) Functional fluid | (G) Polyalphaolefins; paos
P-08-0060 | 11/01/07 | 01/29/08 | CBI | (G) Functional fluid | (G) Polyalphaolefins; paos
P-08-0061 | 10/31/07 | 01/28/08 | CBI | (G) Reactive emulsifier for emulsion polymerization | (G) Alcohol, reaction products with alkylene oxide, alkenyl glycidyl ether sulfate
P-08-0062 | 11/01/07 | 01/29/08 | Reichhold, Inc. | (S) Topcoats for industrial equipment | (G) Urethane modified vegetable oil, epoxidized polymer
P-08-0063 | 11/01/07 | 01/29/08 | CBI | (S) Extrusion of tubing systems; injection molding of special applications | (G) Polyamide based on alkanedioic acid, alkyl lactam and polyoxyalkylene
P-08-0064 | 11/02/07 | 01/30/08 | CBI | (G) An open non-dispersive use | (G) Rosin modified phenolic resin
P-08-0065 | 11/01/07 | 01/29/08 | CBI | (G) Rheology additive | (G) Urethane-urea
P-08-0066 | 11/01/07 | 01/29/08 | CBI | (G) Rheology additive | (G) Urethane-urea
P-08-0067 | 11/05/07 | 02/02/08 | CIBA Corporation | (S) Pigment for printing ink used in time-temperature indicator labeling | (G) 1′,1′′′-[1,4-phenylenebis(methylene)]bis[1′,3′-dihydro-8-methoxy-3′3,′-dimethyl-6-nitro- aromatic substituted indole
P-08-0068 | 11/05/07 | 02/02/08 | Firmenich Inc. | (S) Aroma for use in fragrance mixtures, which in turn are used in perfumes, soaps, cleansers, etc. | (S) Definition: Extractives and their physically modified derivatives. Schinus Terebinthifolius.
P-08-0068 | 11/05/07 | 02/02/08 | Firmenich Inc. | (S) Aroma for use in fragrance mixtures, which in turn are used in perfumes, soaps, cleansers, etc. | (S) Oils, schinus terebinthifolius
P-08-0069 | 11/05/07 | 02/02/08 | CBI | (G) Fuel additive-destructive use | (G) Alkenyl succinimide
P-08-0070 | 11/05/07 | 02/02/08 | CBI | (G) Coating | (G) Fluorosilicone
P-08-0071 | 11/05/07 | 02/02/08 | CBI | (G) Coating | (G) Fluorosilicone
P-08-0072 | 11/05/07 | 02/02/08 | CBI | (G) Thickener for inorganic materials | (G) Poly (methacryloyloxyalkyl trialkylammonium salt)
P-08-0073 | 11/06/07 | 02/03/08 | CBI | (S) Crosslinker for coatings and adhesives | (G) Aliphatic polyisocyanate, C16-alcohol and polyalkylene glycol-blocked
P-08-0074 | 11/06/07 | 02/03/08 | CBI | (S) Crosslinker for coatings and adhesives | (G) Aliphatic polyisocyanate, C16-alcohol and polyalkylene glycol-blocked
P-08-0075 | 11/06/07 | 02/03/08 | CBI | (G) Paint | (G) Polyisocyanate resin
P-08-0076 | 11/07/07 | 02/04/08 | CBI | (G) For application to cellulosic substrates | (G) Disubstituted phenylazo naphthalenstrisulfonic acid, salt
P-08-0077 | 11/13/07 | 02/10/08 | Orient Corporation of America | (S) Charge stabilizer for electro-photo copy toner | (S) Ferrate(1-), bis[4-[2-[5-(1,1-dimethylethyl)-2-(hydroxy-.kappa.o)phenyl]diazenyl]-.kappa.n1]-3-(hydroxy-.kappa.o]-n-phenyl-2-naphthalenecarboxamidato(2-)], hydrogen (1:1)
P-08-0078 | 11/13/07 | 02/10/08 | CBI | (S) PMN material in fragrance products | (G) Plant oil
P-08-0079 | 11/13/07 | 02/10/08 | Reichhold, Inc. | (S) Resin for paints/coatings | (G) Amine salt of polyester polyol, hydroxy substituted carboxylic acid, cycloaliphatic glycol, aliphatic diisocyanate and hydroxy substituted alkylamines.
P-08-0080 | 11/13/07 | 02/10/08 | Reichhold, Inc. | (S) Resin for paints/coatings | (G) Amine salt of polyester polyol, cycloaliphatic glycol, hydroxy substituted carboxylic acid, alkyldiamine and aliphatic diisocyanate
P-08-0081 | 11/13/07 | 02/10/08 | Lubrizol Metalworking Additives | (S) Metalworking fluid component | (S) Soybean oil, maleated, ester with polyethylene glycol mono-C12-16-alkyl ethers
P-08-0082 | 11/13/07 | 02/10/08 | Lubrizol Metalworking Additives | (S) Metalworking fluid component | (S) Soybean oil, maleated, ester with polyethylene glycol mono-C12-16-alkyl ethers, potassium salts
P-08-0083 | 11/13/07 | 02/10/08 | Lubrizol Metalworking Additives | (S) Metalworking fluid component | (S) Soybean oil, maleated, ester with polyethylene glycol mono-C12-16-alkyl ethers, compound with ethanolamine
P-08-0084 | 11/13/07 | 02/10/08 | Lubrizol Metalworking Additives | (S) Metalworking fluid component | (S) Soybean oil, maleated, ester with polyethylene glycol mono-C12-16-alkyl ethers, compound with triethanolamine
P-08-0085 | 11/13/07 | 02/10/08 | Lubrizol Metalworking Additives | (S) Metalworking fluid component | (S) Soybean oil, maleated, ester with polyethylene glycol mono-C12-16-alkyl ethers, compound with branched 3-(tridecyloxy)-1-propanamine
P-08-0086 | 11/13/07 | 02/10/08 | Lubrizol Metalworking Additives | (S) Metalworking fluid component | (S) Amines, C12-14-tert-alkyl, compounds with maleated soybean oil ester with polyethylene glycol mono-C12-16-alkyl ethers
P-08-0087 | 11/14/07 | 02/11/08 | CBI | (G) Lubricant additive open, non-dispersive use | (G) Alkyl acid reaction products with metal salt of alkyl alcohol
P-08-0088 | 11/14/07 | 02/11/08 | CBI | (G) Emulsifier | (G) Perfluorodioxyalkonicacid salt
P-08-0089 | 11/15/07 | 02/12/08 | CBI | (G) Component of paint | (G) Fatty acid oils polymer with aromatic acid, acrylates, styrene, polyol and conjugated anhydrides
P-08-0090 | 11/01/07 | 01/29/08 | CBI | (G) Modifier for epoxy formulations | (G) Epoxy liquid polysulfide
P-08-0091 | 11/13/07 | 02/10/08 | Sasol North America Inc. | (S) Polymer performance additive | (S) Oxirane, 2-[[3-(trimethoxysilyl)propoxy]methyl]-, reaction products with boehmite (al(oh)o)
P-08-0092 | 11/13/07 | 02/10/08 | Sasol North America Inc. | (S) Polymer performance additive | (S) Oxirane, 2-[[3-(trimethoxysilyl)propoxy]methyl]-, reaction products with boehmite (al(oh)o)
P-08-0093 | 11/16/07 | 02/13/08 | CBI | (G) Binder in foundry applications | (G) Aromatic polyester polyol
P-08-0094 | 11/19/07 | 02/16/08 | CBI | (G) Lubricant Additive | (G) Alkyl methacrylate esters telomers with 1-dodecanethiol, tert-bu 2-ethylhexaneperoxoate-initiated
P-08-0095 | 11/19/07 | 02/16/08 | Cytec Industries Inc. | (S) Process chemical for sulfur removal from diesel fuel | (S) Phosphonium, methyltris (2-methylpropyl)-, salt with 4-methylbenzenesulfonic acid (1:1)
P-08-0096 | 11/26/07 | 02/23/08 | CBI | (G) Binder | (G) Polymer of styrene-butadiene, polybutadiene, ethoxylated nonyl pheneol acrylate and 1,6-hexanediol diacrylate
P-08-0097 | 11/26/07 | 02/23/08 | CBI | (G) Binder | (G) Polymer of styrene-butadiene, polybutanediene, ethoxylated nonyl pheneol acrylate and 1,6-hexanediol diacrylate
P-08-0098 | 11/26/07 | 02/23/08 | CBI | (G) Binder | (G) Polymer of styrene-butadiene, polybutanediene, ethoxylated nonyl pheneol acrylate and 1,6-hexanediol diacrylate
P-08-0099 | 11/21/07 | 02/18/08 | AOC LLC | (S) Polyester component for pultrusion of fiberglass reinforced plastic parts | (S) 1,4-benzenedicarboxylic acid, polymer with 1,2-ethanediol, 2,5-furandione, 2,2′-oxybis [ethanol] and 1,2-propanediol
P-08-0100 | 11/26/07 | 02/23/08 | CBI | (G) Metalworking fluid | (G) Polypropylene glycol succinate
P-08-0101 | 11/26/07 | 02/23/08 | Cytec Industries Inc. | (G) Coating resin additive | (S) Phosphinic acid, p,p-diphenyl-
P-08-0102 | 11/26/07 | 02/23/08 | CBI | (G) Industrial liquid coatings | (G) Caprolactam-blocked aliphatic isocyanate polymer
P-08-0103 | 11/26/07 | 02/23/08 | CBI | (G) Intermediate | (G) Dialkylmonoheterocycledione, homopolymer, ester with 1,2,3-propanetriol
P-08-0104 | 11/28/07 | 02/25/08 | CBI | (G) Open, non-dispersive use (additive to coating layer) | (G) Gallium, phthalocyanine complex
P-08-0105 | 11/28/07 | 02/25/08 | CBI | (G) Open, non-dispersive use (additive to coating layer) | (G) Azo compound
P-08-0106 | 11/28/07 | 02/25/08 | CBI | (S) Binder for coatings for wood | (S) 2-propenoic acid, 2-methyl-, polymer with butyl 2-methyl-2-propenoate, butyl 2-propenoate, n-(1,1-dimethyl-3-oxobutyl)-2-propenamide, ethenylbenzene and methyl 2-methyl-2-propenoate
P-08-0107 | 11/28/07 | 02/25/08 | CBI | (G) Rubber additive | (G) Alkoxy silane
P-08-0108 | 11/28/07 | 02/25/08 | CBI | (G) Marker for liquid petroleum fuels | (G) Alkylphthalein ester
P-08-0109 | 11/29/07 | 02/26/08 | CBI | (G) Polyester substrate auxiliary | (G) Disubstituted methoxyacetanilide
P-08-0110 | 11/29/07 | 02/26/08 | CBI | (G) Raw material | (G) Mixed metal halide

In Table II of this unit, EPA provides the following information (to the extent that such information is not claimed as CBI) on the TMEs received:

II. 1 Test Marketing Exemption Notices Received From: 10/01/07 to 11/30/07
Case No. | Received Date | Projected Notice End Date | Manufacturer/Importer | Use | Chemical
T-08-0001 | 11/19/07 | 01/02/08 | Cytec industries Inc. | (S) Process chemical for sulfur removal from diesel fuel | (S) Phosphonium, methyltris (2-methylpropyl)-, salt with 4-methylbenzenesulfonic acid (1:1)

In Table III of this unit, EPA provides the following information (to the extent that such information is not claimed as CBI) on the Notices of Commencement to manufacture received:

III. 41 Notices of Commencement From: 10/01/07 to 11/30/07
Case No. | Received Date | Commencement Notice End Date | Chemical
P-02-0748 | 11/05/07 | 10/10/07 | (S) Heptacyclo[11.11.1.13,11.15,21.17,19.19,17.115,23]dodecasiloxane, dodecaphenyl-
P-02-0750 | 11/05/07 | 10/10/07 | (S) Pentacyclo[9.5.1.13,9.15,15.17,13]octasiloxane, octamethyl-
P-02-0751 | 11/05/07 | 10/10/07 | (S) Pentacyclo[9.5.1.13,9.15,15.17,13]octasiloxane, octaphenyl-
P-02-0778 | 11/07/07 | 10/10/07 | (G) Dialkyl dithiocarbamate ester
P-02-0860 | 11/14/07 | 10/16/07 | (G) Silicoaluminophosphate with template
P-05-0079 | 11/06/07 | 10/12/07 | (G) Potassium salt of substituted arylazo butanamide
P-05-0138 | 11/29/07 | 11/20/07 | (G) Multifunctional acrylate oligomer resin
P-05-0420 | 11/21/07 | 11/01/07 | (S) Hexanoic acid, 6,6′,6′′-(1,3,5-triazine-2,4,6-triyltriimino)tris-, compound with 1-amino-2-propanol
P-05-0423 | 11/21/07 | 11/01/07 | (S) Hexanoic acid, 6,6′,6′′-(1,3,5-triazine-2,4,6-triyltriimino)tris-, compound with 2-(2-aminoethoxy) ethanol
P-06-0489 | 11/29/07 | 11/16/07 | (G) Fluoroalkyl methacrylate copolymer
P-06-0546 | 11/27/07 | 11/19/07 | (G) Substituted carbomonocycle, polymer with isocyanate substituted alkyl carbomonocycle, substituted alkenoates, substituted heteromonocycle, alkanedioic acid, alkane diol, reaction products with substituted alkylamine, compounds with substituted alkanol
P-06-0563 | 11/29/07 | 11/21/07 | (G) Fluoroalkyl methacrylate copolymer
P-06-0820 | 11/20/07 | 11/12/07 | (G) Trisubstituted triazine
P-07-0048 | 11/23/07 | 08/21/07 | (G) Salt of amine with aliphatic acid
P-07-0049 | 11/23/07 | 10/30/07 | (G) Aliphatic polyamide
P-07-0132 | 11/23/07 | 11/05/07 | (G) Polyurethane prepolymer; polyurethane hot melt adhesive
P-07-0156 | 11/21/07 | 10/10/07 | (G) Aminomercapto siloxane
P-07-0216 | 11/13/07 | 11/08/07 | (G) Substituted phenyl amino alkyl sulfonyl reaction product with substituted naphthalenesulfonic acid amino compound
P-07-0250 | 11/14/07 | 10/25/07 | (G) Fatty acid modified polyester resin
P-07-0300 | 11/02/07 | 10/29/07 | (G) Acrylic polymer on the basis of isobutyl methacrylate
P-07-0318 | 11/15/07 | 10/16/07 | (G) Organic lithium compound
P-07-0352 | 11/14/07 | 10/29/07 | (G) Modified polymer of substituted acrylate and alkyl methacrylates
P-07-0361 | 11/06/07 | 10/23/07 | (G) Linseed oil, ester with pentaerythritol, polymer with hydrazine, 3-hydroxy-2-(hydroxymethyl)2-methylpropanoic acid, 5-isocyanato-1-(isocyanatomethyl)-alkylcyclohexane, 1,1′-methylenebis[4.isocyanatocyclohexane] and polypropylene glycol, compounds with triethylamine
P-07-0392 | 11/05/07 | 10/08/07 | (G) Modified epoxy resin
P-07-0402 | 11/21/07 | 11/05/07 | (G) Alkylphenoxy naphthalic acid amide, n-alkylphenyl-
P-07-0408 | 11/05/07 | 10/16/07 | (G) Epoxy phenolic resin
P-07-0439 | 11/21/07 | 10/25/07 | (G) Polycarboxylate, modified sodium salt
P-07-0448 | 10/29/07 | 10/16/07 | (G) Secondary amine adduct
P-07-0495 | 11/09/07 | 10/19/07 | (G) Amino substituted benzoic acid
P-07-0498 | 11/26/07 | 11/06/07 | (S) 2-propenoic acid, 2-methyl-, butyl ester, polymer with 2-ethylhexyl 2-propenoate, 2-methylpropyl 2-methyl-2-propenoate and 1,2-propanediol mono(2-methyl-2-propenoate), tert-bu 3,5,5-trimethylhexaneperoxoate-initiated
P-07-0519 | 11/01/07 | 10/05/07 | (G) Aminobenzene
P-07-0525 | 11/05/07 | 10/21/07 | (G) Fatty acids, hydrogenated, reaction products with tetraethylenepentamine, aliphatic carboxylate
P-07-0529 | 10/31/07 | 10/18/07 | (G) 2-propenoic acid, 2-methyl-, telomer with 1-alkylthiol, alkyl 2-propenoate and alkyl 2-methyl-2-propenoate, ammonium salt
P-07-0539 | 11/20/07 | 11/15/07 | (G) Epoxy acrylic resin
P-07-0560 | 10/29/07 | 10/19/07 | (G) Acrylate modified acrylonitrile, butadiene, styrene polymer
P-07-0561 | 11/06/07 | 10/23/07 | (G) Metal salt of styrene - acrylic copolymer
P-07-0569 | 11/26/07 | 10/29/07 | (S) Siloxanes and silicones, di-me, me [(2-methyl-1-oxo-2-propen-1-yl)oxy]methyl, [(methoxymethyl[[(2-methyl-1-oxo-2-propen-1-yl)oxy]methyl)silyl]oxy]-terminated
P-07-0630 | 11/30/07 | 11/27/07 | (G) Polyester polyether urethane block copolymer
P-99-0303 | 11/30/07 | 11/27/07 | (G) N-butyl, 2-ethylhexyl acrylate copolymer

List of Subjects

Environmental protection, Chemicals, Premanufacturer notices.

Dated: January 14, 2008.
Chandler Sirmons,
Acting Director, Information Management Division, Office of Pollution Prevention and Toxics.

[FR Doc. E8-1003 Filed 1-22-08; 8:45 am]

BILLING CODE 6560-50-S